DEPARTMENT OF ENERGY

Federal Energy Regulatory Commission

Combined Notice of Filings #1

Take notice that the Commission received the following exempt wholesale generator filings:

Docket Numbers: EG11-132-000.

Applicants: Pioneer Trail Wind Farm, LLC.

Description: Pioneer Trail Wind Farm, LLC, Notice of Self-Certification of Exempt Wholesale Generator Status.

Filed Date: 09/29/2011.

Accession Number: 20110929-5120.

Comment Date: 5 p.m. Eastern Time on Thursday, October 20, 2011.

Take notice that the Commission received the following electric rate filings:

Docket Numbers: ER11-4175-001.

Applicants: Arizona Public Service Company.

Description: Arizona Public Service Company submits tariff filing per 35: Compliance Filing to Add Title Page to Service Agreement No. 313 to be effective 8/31/2011.

Filed Date: 09/29/2011.

Accession Number: 20110929-5103.

Comment Date: 5 p.m. Eastern Time on Thursday, October 20, 2011.

Docket Numbers: ER11-4694-000.

Applicants: GSG 6, LLC.

Description: GSG 6, LLC submits tariff filing per 35.12: Market-Based Rate Application to be effective 12/1/2011.

Filed Date: 09/29/2011.

Accession Number: 20110929-5088.

Comment Date: 5 p.m. Eastern Time on Thursday, October 20, 2011.

Docket Numbers: ER11-4695-000.

Applicants: Hafslund Energy Trading LLC.

Description: Hafslund Energy Trading LLC submits tariff filing per 35.12: Hafslund Baseline Tariff to be effective 9/29/2011.

Filed Date: 09/29/2011.

Accession Number: 20110929-5092.

Comment Date: 5 p.m. Eastern Time on Thursday, October 20, 2011.

Docket Numbers: ER11-4696-000.

Applicants: NFI Solar, LLC.

Description: NFI Solar, LLC submits tariff filing per 35.1: Market-Based Rate Tariff Baseline to be effective 9/29/2011.

Filed Date: 09/29/2011.

Accession Number: 20110929-5093.

Comment Date: 5 p.m. Eastern Time on Thursday, October 20, 2011.

Docket Numbers: ER11-4697-000.

Applicants: PJM Interconnection, LLC.

Description: PJM Interconnection, LLC. submits tariff filing per 35.13(a)(2)(iii: Queue Position None—Original Service Agreement No. 3070 to be effective 8/30/2011.

Filed Date: 09/29/2011.

Accession Number: 20110929-5112.

Comment Date: 5 p.m. Eastern Time on Thursday, October 20, 2011.

Docket Numbers: ER11-4698-000.

Applicants: Somerset Power LLC.

Description: Somerset Power LLC submits tariff filing per 35.15: Cancellation of Market-Based Rate Tariff to be effective 9/30/2011.

Filed Date: 09/29/2011.

Accession Number: 20110929-5115.

Comment Date: 5 p.m. Eastern Time on Thursday, October 20, 2011.

Docket Numbers: ER11-4699-000.

Applicants: PJM Interconnection, LLC.

Description: PJM Interconnection, LLC submits tariff filing per 35.13(a)(2)(iii: Queue Position None—Original Service Agreement No. 3069 to be effective 8/30/2011.

Filed Date: 09/29/2011.

Accession Number: 20110929-5128.

Comment Date: 5 p.m. Eastern Time on Thursday, October 20, 2011.

Docket Numbers: ER11-4700-000.

Applicants: Southwest Power Pool, Inc.

Description: Southwest Power Pool, Inc. submits tariff filing per 35.13(a)(2)(iii: 2252 Cottonwood Wind Project GIA to be effective 8/31/2011.

Filed Date: 09/29/2011.

Accession Number: 20110929-5129.

Comment Date: 5 p.m. Eastern Time on Thursday, October 20, 2011.

Docket Numbers: ER11-4701-000.

Applicants: The Highlands Energy Group.

Description: The Highlands Energy Group submits tariff filing per 35.1: Market Based Rates to be effective 9/30/2011.

Filed Date: 09/29/2011.

Accession Number: 20110929-5147.

Comment Date: 5 p.m. Eastern Time on Thursday, October 20, 2011.

Docket Numbers: ER11-4702-000.

Applicants: PJM Interconnection, LLC.

Description: PJM Interconnection, LLC submits tariff filing per 35.13(a)(2)(iii: Quarterly Updates to PJM OA and RAA Membership Lists to be effective 9/23/2011.

Filed Date: 09/29/2011.

Accession Number: 20110929-5155.

Comment Date: 5 p.m. Eastern Time on Thursday, October 20, 2011.

Docket Numbers: ER11-4703-000.

Applicants: Avista Corporation.

Description: Avista Corporation submits tariff filing per 35.13(a)(2)(iii: Avista Corp OATT revisions Attachments F, G and I to be effective 10/1/2011.

Filed Date: 09/29/2011.

Accession Number: 20110929-5165.

Comment Date: 5 p.m. Eastern Time on Thursday, October 20, 2011.

Docket Numbers: ER11-4704-000.

Applicants: Black Hills Power, Inc.

Description: Black Hills Power, Inc. submits tariff filing per 35.13(a)(2)(iii: Revised BH Power, Inc., JOATT to Eliminate WAPA-RMR References to be effective 9/30/2011.

Filed Date: 09/29/2011.

Accession Number: 20110929-5177.

Comment Date: 5 p.m. Eastern Time on Thursday, October 20, 2011.

Docket Numbers: ER11-4705-000.

Applicants: Louisville Gas and Electric Company.

Description: Louisville Gas and Electric Company submits tariff filing per 35.13(a)(2)(iii: 09_29_11 Amended and Restated EKPC IA to be effective 11/30/2011.

Filed Date: 09/29/2011.

Accession Number: 20110929-5178.

Comment Date: 5 p.m. Eastern Time on Thursday, October 20, 2011.

Docket Numbers: ER11-4705-000.

Applicants: Louisville Gas and Electric Company.

Description: Louisville Gas and Electric Company submits tariff filing per 35.13(a)(2)(iii: 09_29_11 Amended and Restated EKPC IA to be effective 11/30/2011.

Filed Date: 09/29/2011.

Accession Number: 20110929-5179.

Comment Date: 5 p.m. Eastern Time on Thursday, October 20, 2011.

Docket Numbers: ER11-4706-000.

Applicants: Viridity Energy, Inc.

Description: Viridity Energy, Inc. submits tariff filing per 35.12: MBR Application of Viridity Energy, Inc. to be effective 11/28/2011.

Filed Date: 09/29/2011.

Accession Number: 20110929-5180.

Comment Date: 5 p.m. Eastern Time on Thursday, October 20, 2011.

Docket Numbers: ER11-4707-000.

Applicants: Kentucky Utilities Company.

Description: Kentucky Utilities Company submits tariff filing per 35.13(a)(2)(iii): LGE and KU Joint Rate Schedule FERC No. 500 to be effective 11/30/2011.

Filed Date: 09/29/2011.

Accession Number: 20110929-5181.

Comment Date: 5 p.m. Eastern Time on Thursday, October 20, 2011.

Docket Numbers: ER11-4708-000.

Applicants: Arizona Public Service Company.

Description: Arizona Public Service Company submits tariff filing per 35.13(a)(2)(iii: Filing To Remove RMS Requirement From Multiple Service Agreements to be effective 9/21/2011.

Filed Date: 09/29/2011.

Accession Number: 20110929-5182.

Comment Date: 5 p.m. Eastern Time on Thursday, October 20, 2011.

Docket Numbers: ER11-4714-000.

Applicants: Niagara Mohawk Power Corporation.

Description: Notice of Termination of Service Agreement No. 309 by Niagara Mohawk Power Corporation.

Filed Date: 09/29/2011.

Accession Number: 20110929-5188.

Comment Date: 5 p.m. Eastern Time on Thursday, October 20, 2011.

Docket Numbers: ER11-4715-000.

Applicants: Puget Sound Energy, Inc.

Description: Termination of the Short-Term Bridge Residential Purchase and Sale Agreement, Rate Schedule FERC No. 448.

Filed Date: 09/29/2011.

Accession Number: 20110929-5226.

Comment Date: 5 p.m. Eastern Time on Thursday, October 20, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2011.
Nathaniel J. Davis, Sr.,
Deputy Secretary.

[FR Doc. 2011-26080 Filed 10-7-11; 8:45 am]

BILLING CODE 6717-01-P